DEPARTMENT OF ENERGY

Federal Energy Regulatory Commission

Combined Notice of Filings

Take notice that the Commission has received the following Natural Gas Pipeline Rate and Refund Report filings:

Filings Instituting Proceedings

Docket Numbers: RP12-417-000.

Applicants: Viking Gas Transmission Company.

Description: LMCRA—Spring 2012 to be effective 4/1/2012.

Filed Date: 2/29/12.

Accession Number: 20120229-5022.

Comments Due: 5 p.m. ET 3/12/12.

Docket Numbers: RP12-418-000.

Applicants: Columbia Gulf Transmission Company.

Description: TRA 2012 to be effective 4/1/2012.

Filed Date: 2/29/12.

Accession Number: 20120229-5023.

Comments Due: 5 p.m. ET 3/12/12.

Docket Numbers: RP12-419-000.

Applicants: Gulf Crossing Pipeline Company LLC.

Description: Antero 2 to Tenaska 423 Capacity Release Negotiated Rate Agreement Filing to be effective 3/1/2012.

Filed Date: 2/29/12.

Accession Number: 20120229-5024.

Comments Due: 5 p.m. ET 3/12/12.

Docket Numbers: RP12-420-000.

Applicants: Gulf South Pipeline Company, LP.

Description: HK 37731 to Spark 39604 Capacity Release Negotiated Rate Agreement Filing to be effective 3/1/2012.

Filed Date: 2/29/12.

Accession Number: 20120229-5025.

Comments Due: 5 p.m. ET 3/12/12.

Docket Numbers: RP12-421-000.

Applicants: Gulf South Pipeline Company, LP.

Description: HK 37731 to Texla 39606 Capacity Release Negotiated Rate Agreement Filing to be effective 3/1/2012.

Filed Date: 2/29/12.

Accession Number: 20120229-5026.

Comments Due: 5 p.m. ET 3/12/12.

Docket Numbers: RP12-422-000.

Applicants: Gulf South Pipeline Company, LP.

Description: HK 37731 to Sequent 39605 Capacity Release Negotiated Rate Agreement Filing to be effective 3/1/2012.

Filed Date: 2/29/12.

Accession Number: 20120229-5027.

Comments Due: 5 p.m. ET 3/12/12.

Docket Numbers: RP12-423-000.

Applicants: Columbia Gas Transmission, LLC.

Description: EPCA 2012 to be effective 4/1/2012.

Filed Date: 2/29/12.

Accession Number: 20120229-5028.

Comments Due: 5 p.m. ET 3/12/12.

Docket Numbers: RP12-424-000.

Applicants: Dauphin Island Gathering Partners.

Description: Negotiated Rates 2012-02-29 to be effective 3/1/2012.

Filed Date: 2/29/12.

Accession Number: 20120229-5061.

Comments Due: 5 p.m. ET 3/12/12.

Docket Numbers: RP12-425-000.

Applicants: Northwest Pipeline GP.

Description: NWP Fuel Factor Filing, Effective April 1, 2012 to be effective 4/1/2012.

Filed Date: 2/29/12.

Accession Number: 20120229-5065.

Comments Due: 5 p.m. ET 3/12/12.

Docket Numbers: RP12-426-000.

Applicants: TWP Pipeline LLC.

Description: Annual FRP Filing to be effective 4/1/2012.

Filed Date: 2/29/12.

Accession Number: 20120229-5067.

Comments Due: 5 p.m. ET 3/12/12.

Docket Numbers: RP12-427-000.

Applicants: Millennium Pipeline Company, LLC.

Description: Annual Retainage Adjustment Mechanism Filing to be effective 4/1/2012.

Filed Date: 2/29/12.

Accession Number: 20120229-5071.

Comments Due: 5 p.m. ET 3/12/12.

Docket Numbers: RP12-428-000.

Applicants: Gulf South Pipeline Company, LP.

Description: Tenaska 38581-2 Amendment to Negotiated Rate Agreement Filing to be effective 3/1/2012.

Filed Date: 2/29/12.

Accession Number: 20120229-5107.

Comments Due: 5 p.m. ET 3/12/12.

Docket Numbers: RP12-429-000.

Applicants: Columbia Gas Transmission, LLC.

Description: RAM 2012 to be effective 4/1/2012.

Filed Date: 2/29/12.

Accession Number: 20120229-5130.

Comments Due: 5 p.m. ET 3/12/12.

Docket Numbers: RP12-430-000.

Applicants: Central Kentucky Transmission Company.

Description: Annual RAM Filing—2012 to be effective 4/1/2012.

Filed Date: 2/29/12.

Accession Number: 20120229-5137.

Comments Due: 5 p.m. ET 3/12/12.

Docket Numbers: RP12-431-000.

Applicants: Millennium Pipeline Company, LLC.

Description: Annual Operational Purchases and Sales Filing to be effective N/A.

Filed Date: 2/29/12.

Accession Number: 20120229-5162.

Comments Due: 5 p.m. ET 3/12/12.

Docket Numbers: RP12-432-000.

Applicants: Transwestern Pipeline Company, LLC.

Description: 2012 TW Settlement Fuel Filing to be effective 4/1/2012.

Filed Date: 2/29/12.

Accession Number: 20120229-5166.

Comments Due: 5 p.m. ET 3/12/12.

Docket Numbers: RP12-433-000.

Applicants: Trailblazer Pipeline Company LLC.

Description: Negotiated Rate Filing-Shell to be effective 3/1/2012.

Filed Date: 2/29/12.

Accession Number: 20120229-5191.

Comments Due: 5 p.m. ET 3/12/12.

Docket Numbers: RP12-434-000.

Applicants: Kern River Gas Transmission Company.

Description: 2012 Daggett Surcharge to be effective 4/1/2012.

Filed Date: 2/29/12.

Accession Number: 20120229-5220.

Comments Due: 5 p.m. ET 3/12/12.

Docket Numbers: RP12-435-000.

Applicants: Trailblazer Pipeline Company LLC.

Description: Negotiated Rate Filing-CIMA to be effective 3/1/2012.

Filed Date: 2/29/12.

Accession Number: 20120229-5221.

Comments Due: 5 p.m. ET 3/12/12.

Docket Numbers: RP12-436-000.

Applicants: Dominion Cove Point LNG, LP.

Description: DCP—2012 Annual EPCA to be effective 4/1/2012.

Filed Date: 2/29/12.

Accession Number: 20120229-5227.

Comments Due: 5 p.m. ET 3/12/12.

Docket Numbers: RP12-437-000.

Applicants: Dominion Cove Point LNG, LP.

Description: DCP—2012 Annual Fuel Retainage to be effective 4/1/2012.

Filed Date: 2/29/12.

Accession Number: 20120229-5243.

Comments Due: 5 p.m. ET 3/12/12.

Docket Numbers: RP12-438-000.

Applicants: Columbia Gas Transmission, LLC.

Description: Negotiated Rate Service Agreement Filing—WGL to be effective 3/28/2012.

Filed Date: 2/29/12.

Accession Number: 20120229-5269.

Comments Due: 5 p.m. ET 3/12/12.

Docket Numbers: RP12-439-000.

Applicants: TransColorado Gas Transmission Company LLC.

Description: TransColorado Gas Transmission Company LLC's Annual Fuel Gas Reimbursement Percentage Report.

Filed Date: 2/29/12.

Accession Number: 20120229-5301.

Comments Due: 5 p.m. ET 3/12/12.

Docket Numbers: RP12-440-000.

Applicants: Stingray Pipeline Company, L.L.C.

Description: Filed Date: 2/29/12.

Accession Number: 20120229-5309.

Comments Due: 5 p.m. ET 3/12/12.

Docket Numbers: RP12-441-000.

Applicants: Transcontinental Gas Pipe Line Company.

Description: Annual Electric Power Tracker Filing effective April 1, 2012 to be effective 4/1/2012.

Filed Date: 3/1/12.

Accession Number: 20120301-5034.

Comments Due: 5 p.m. ET 3/13/12.

Docket Numbers: RP12-442-000.

Applicants: ANR Pipeline Company.

Description: ANR Pipeline Company submits tariff filing per 154.403(d)(2): Fuel Filing 2012 to be effective 4/1/2012.

Filed Date: 3/1/12.

Accession Number: 20120301-5037.

Comments Due: 5 p.m. ET 3/13/12.

Docket Numbers: RP12-443-000.

Applicants: Southern Star Central Gas Pipeline, Inc.

Description: Fuel Filing—Eff. April 1, 2012 to be effective 4/1/2012.

Filed Date: 3/1/12.

Accession Number: 20120301-5038.

Comments Due: 5 p.m. ET 3/13/12.

Docket Numbers: RP12-444-000.

Applicants: Williston Basin Interstate Pipeline Company.

Description: 2012 Annual Fuel and Electric Power Reimbursement to be effective 4/1/2012.

Filed Date: 3/1/12.

Accession Number: 20120301-5039.

Comments Due: 5 p.m. ET 3/13/12.

Docket Numbers: RP12-445-000.

Applicants: Dauphin Island Gathering Partners.

Description: Dauphin Island Gathering Partners submits tariff filing per 154.403: Storm Surcharge 2012 to be effective 4/1/2012.

Filed Date: 3/1/12.

Accession Number: 20120301-5051.

Comments Due: 5 p.m. ET 3/13/12.

Docket Numbers: RP12-446-000.

Applicants: Texas Eastern Transmission, LP.

Description: Update GTC Section 3.18 to Delete Contract 830089 to be effective 4/1/2012.

Filed Date: 3/1/12.

Accession Number: 20120301-5068.

Comments Due: 5 p.m. ET 3/13/12.

Docket Numbers: RP12-447-000.

Applicants: Cimarron River Pipeline, LLC.

Description: Cimarron River Pipeline, LLC submits tariff filing per 154.403(d)(2): Fuel Tracker 2012 to be effective 4/1/2012.

Filed Date: 3/1/12.

Accession Number: 20120301-5071.

Comments Due: 5 p.m. ET 3/13/12.

Docket Numbers: RP12-448-000.

Applicants: PostRock KPC Pipeline, LLC.

Description: KPC Fuel Reimbursement Adjustment, to be effective 4/1/2012.

Filed Date: 3/1/12.

Accession Number: 20120301-5072.

Comments Due: 5 p.m. ET 3/13/12.

Docket Numbers: RP12-449-000.

Applicants: MarkWest Pioneer, L.L.C.

Description: MarkWest Pioneer—Quarterly FRP Filing to be effective 4/1/2012.

Filed Date: 3/1/12.

Accession Number: 20120301-5073.

Comments Due: 5 p.m. ET 12/13/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings.

Docket Numbers: RP12-128-005.

Applicants: Algonquin Gas Transmission, LLC.

Description: Docket RP12-128 Compliance Filing #2 to be effective 12/2/2011.

Filed Date: 2/22/12.

Accession Number: 20120222-5072.

Comments Due: 5 p.m. ET 3/8/12.

Docket Numbers: RP12-359-002.

Applicants: CenterPoint Energy Gas Transmission Company.

Description: CEGT LLC—February 2012 Negotiated Rate Filing—Amended 2-22-12 to be effective 2/1/2012.

Filed Date: 2/22/12.

Accession Number: 20120222-5109.

Comments Due: 5 p.m. ET 3/8/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 1, 2012.
Nathaniel J. Davis, Sr.
Deputy Secretary

[FR Doc. 2012-5475 Filed 3-6-12; 8:45 am]

BILLING CODE 6717-01-P